DEPARTMENT OF THE INTERIOR

National Park Service

[NPS-WASO-NAGPRA-NPS0036673; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is a cultural affiliation between the human remains and associated funerary objects and Indian Tribes or Native Hawaiian organizations in this notice. The human remains and associated funerary objects were removed from Platte County, MO.

DATES: Repatriation of the human remains and associated funerary objects in this notice may occur on or after October 30, 2023.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the determinations in this notice, including the results of consultation, can be found in the inventory or related records held by Kansas State University.

Description.

Human remains representing, at minimum, six individuals were removed from the Cochran Mound, 23PL86, in Platte County, KS. The Cochran Mound is a burial mound on private land. It occupies a portion of the highest point of the left (east) bluff of the Missouri River, just upstream from the confluence of Brush Creek with the river. The mound measures 102 feet long (north-south) by 86 feet wide (east- west), and it contains a stone vault measuring 8.75 feet square. Excavation of the Cochran Mound was conducted in June of 1971 by staff and students of the Kansas Archaeological Field School, under the direction of Dr. Patricia J. O'Brien of Kansas State University. Excavation showed that it had been severely looted by an unknown person or persons at an unknown time in the past. Collections were processed and cataloged by field school students and then removed to the archeology laboratory at Kansas State University for analysis, reporting, and curation. They have remained in the university's possession since that time. The human remains are commingled and are highly fragmented. Some of the bones were burnt, suggesting that cremation had occurred. As some of the artifacts also show heat fractures, they may have been with the bodies at the time of cremation. The human remains belong to four adults, one juvenile, and one infant. One of the adults is female and another adult was at least 45 years of age or older at the time of death. The 17 associated funerary objects are one projectile point, four biface fragments, one retouched flake, five bullets (historic), one hematite stone, one shell bead, one lot consisting of gastropod shells, two charcoal samples, and one lot consisting of stone debitage (approximately 38 pieces).

Human remains representing, at minimum, six individuals were removed from the Cogan Mounds, 23PL125, in Platte County, MO. The Cogan Mounds are comprised of two burial mounds on private land. Mound 1 measures about five meters in diameter and was made of various sized limestone slabs mixed with dirt. It contained the remains of a disturbed limestone vault measuring 1.78 meters long on the north side and 2.20 meters on the west side (the east and south sides were sufficiently damaged as to preclude measurement). No entrance was found. The presence of Euromerican debris indicated prior disturbance. Mound 2 was about 35 meters to the southeast of Mound 1. It contained an irregular rectangular limestone vault measuring 2.77 meters long on the north side, 2.83 meters long on the west side, and 3.11 meters long on the east side. The 0.88-meter-wide entrance was on the south side, 0.84 meter from the west wall and 0.82 meter from the east wall. The vault was intact, but the presence of Euromerican debris indicated it had been looted at an unknown time in the past. Excavation of the Cogan Mounds was conducted in June and July of 1973 by staff and students from the Kansas Archaeological Field School, under the direction of Dr. Patricia J. O'Brien from Kansas State University. Collections were processed and cataloged by field school students and then removed to the archeology laboratory at Kansas State University for analysis, reporting, and curation. They have remained in the university's possession since that time. Fragmentary human remains belonging to one female adult, two adults of indeterminate sex, one child and one six-month-old infant were removed from Mound 1. Some of the bones are burnt, suggesting that cremation had occurred. Fragmentary human remains belonging to an adult of indeterminate sex were removed from Mound 2. Several pieces of bone show green copper staining. Of the 39 associated funerary objects, 23 are historic. The 39 associated funerary objects are eight metal nail fragments, one iron stake, one metal bridle ring, one bullet casing, two glass buttons, one ceramic fragment, nine glass and crockery fragments, one hematite stone, one projectile point, one lot consisting of stone debitage (approximately 83 pieces), one stone core, one fossil, one animal bone fragment, two gastropod shells, one ceramic sherd, three seeds, two charcoal samples, and two rocks.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, Kansas State University has determined that:

• The human remains described in this notice represent the physical remains of 12 individuals of Native American ancestry.

• The 56 objects described in this notice are reasonably believed to have been placed with or near individual human remains at the time of death or later as part of the death rite or ceremony.

• There is a relationship of shared group identity that can be reasonably traced between the human remains and associated funerary objects described in this notice and the Iowa Tribe of Kansas and Nebraska; Iowa Tribe of Oklahoma; Omaha Tribe of Nebraska; Otoe-Missouria Tribe of Indians, Oklahoma; Ponca Tribe of Indians of Oklahoma; Ponca Tribe of Nebraska; Sac & Fox Nation of Missouri in Kansas and Nebraska; Sac & Fox Nation, Oklahoma; Sac & Fox Tribe of the Mississippi in Iowa; and The Osage Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, Kansas State University must determine the most appropriate requestor prior to repatriation. Requests for joint repatriation of the human remains and associated funerary objects are considered a single request and not competing requests. Kansas State University is responsible for sending a copy of this notice to the Indian Tribes identified in this notice.

Authority: Native American Graves Protection and Repatriation Act, 25 U.S.C. 3003, and the implementing regulations, 43 CFR 10.9, 10.10, and 10.14.

Dated: September 25, 2023.
Melanie O'Brien,
Manager, National NAGPRA Program.

[FR Doc. 2023-21388 Filed 9-28-23; 8:45 am]

BILLING CODE 4312-52-P